DEPARTMENT OF HEALTH AND HUMAN SERVICES

Centers for Disease Control and Prevention

Notice of Award of a Sole Source Cooperative Agreement To Fund Burkina Faso Ministry of Health, Direction of Disease Control Epidemics and Pandemics (DLMEP), Pasteur Institute of Ivory Coast (ICPI), National Public Health Institute of Liberia (NPHIL), Nigeria Center for Disease Control (NCDC), Senegal Ministry of Health and Social Action, and Sierra Leone Ministry of Health (MoH)

AGENCY: Centers for Disease Control and Prevention (CDC), Department of Health and Human Services (HHS).

ACTION: Notice.

SUMMARY: The Centers for Disease Control and Prevention (CDC), located within the Department of Health and Human Services (HHS), announces seven separate awards to fund Burkina Faso Ministry of Health, Direction of Disease Control Epidemics and Pandemics in Cameroon, Pasteur Institute of Ivory Coast in Cote d'Ivoire, National Public Health Institute of Liberia in Liberia, Nigeria Center for Disease Control in Nigeria, Senegal Ministry of Health and Social Action in Senegal, and Ministry of Health in Sierra Leone. For Burkina Faso Ministry of Health, the award is for approximately $1,000,000, with an expected total funding of approximately $5,000,000. For Direction of Disease Control Epidemics and Pandemics, the award is for approximately $500,000, with an expected total funding of approximately $2,500,000. For Pasteur Institute of Ivory Coast (IPCI), the award is for approximately $2,000,000, with an expected total funding of approximately $10,000,000. For National Public Health Institute of Liberia (NPHIL), the award is for approximately $1,000,000 with an expected total funding of approximately $5,000,000. For Nigeria Center for Disease Control (NCDC), the award is for approximately $500,000 with an expected total funding of approximately $2,500,000. For Senegal Ministry of Health and Social Action, the award is for approximately $500,000 with an expected total funding of approximately $2,500,000. For Sierra Leone Ministry of Health (MoH), the award is for approximately $1,000,000, with an expected total funding of approximately $5,000,000. The total 5-year period amount for the seven recipients is $32,500,000, subject to the availability of funds. The awards will protect Americans and people worldwide from public health threats by building capacity within their respective countries to strengthen public health preparedness; early pathogen detection to mitigate the impact of global disease outbreaks and public health; and bolstering rapid response to global health emergencies.

DATES: The period for these awards will be September 30, 2025 through September 29, 2030.

FOR FURTHER INFORMATION CONTACT: Broderick Yoerg, Division of Global Health Protection, Global Health Center, Centers for Disease Control and Prevention, 1600 Clifton Rd., Atlanta, GA 30329, Telephone: (404) 234-0666, Email: DGHPNOFOs@cdc.gov.

SUPPLEMENTARY INFORMATION: The sole source award will provide support around disease surveillance and outbreak response, including establishing routine surveillance and developing information technology tools and systems. Broad areas of support include, but are not limited to: emergency management, ensuring countries have the knowledge and resources they need, including emergency operations centers that can mount a fast, coordinated response when outbreaks happen; safe laboratory systems and diagnostics, building the capacity to identify disease threats close to the source and inform decision-making; and developing the workforce, training frontline responders, laboratorians, disease detectives, emergency managers, and other health professionals who are responsible for taking the lead when crisis strikes.

These are the only entities that can carry out this work, as they are in a unique position to conduct this work as host government ministries of health. They have the authority to support health service delivery through capacity building and oversee the national coordination of surveillance, preparedness, prevention, and response activities to all forms of health threats and public health emergencies.

Summary of the Award

Recipient: Burkina Faso Ministry of Health, Direction of Disease Control Epidemics and Pandemics, Pasteur Institute of Ivory Coast, National Public Health Institute of Liberia, Nigeria Center for Disease Control, Senegal Ministry of Health and Social Action, and Sierra Leone Ministry of Health.

Purpose of the Award: The purpose of these awards is to support disease surveillance and outbreak response, emergency management, safe laboratory systems and diagnostics and developing the public health workforce in Burkina Faso, Cameroon, Cote d'Ivoire, Liberia, Nigeria, Senegal, and Sierra Leone.

Amount of Award: For Burkina Faso Ministry of Health, the award is for approximately $1,000,000 in Federal Fiscal Year (FFY) 2025, with an expected total funding of approximately $5,000,000 for the 5-year period of performance, subject to availability of funds. For Direction of Disease Control Epidemics and Pandemics (DLMEP), the award is for approximately $500,000 in Federal Fiscal Year (FFY) 2025, with an expected total funding of approximately $2,500,000 for the 5-year period of performance, subject to availability of funds. For Pasteur Institute of Ivory Coast (IPCI), the award is for approximately $2,000,000 in Federal Fiscal Year (FFY) 2025, with an expected total funding of approximately $10,000,000 for the 5-year period of performance, subject to availability of funds. For National Public Health Institute of Liberia (NPHIL), the award is for approximately $1,000,000 in Federal Fiscal Year (FFY) 2025, with an expected total funding of approximately $5,000,000 for the 5-year period of performance, subject to availability of funds. For Nigeria Center for Disease Control (NCDC), the award is for approximately $500,000 in Federal Fiscal Year (FFY) 2025, with an expected total funding of approximately $2,500,000 for the 5-year period of performance, subject to availability of funds. For Senegal Ministry of Health and Social Action, the award is for approximately $500,000 in Federal Fiscal Year (FFY) 2025, with an expected total funding of approximately $2,500,000 for the 5-year period of performance, subject to availability of funds. For Sierra Leone Ministry of Health (MoH), the award is for approximately $1,000,000 in Federal Fiscal Year (FFY) 2025, with an expected total funding of approximately $5,000,000 for the 5-year period of performance, subject to availability of funds.

Authority: This program is authorized under Section 307 of the Public Health Service Act [42 U.S.C. 242l] and Section 301(a) [42 U.S.C. 241(a)] of the Public Health Service Act.

Period of Performance: September 20, 2025 through September 29, 2030.

Dated: December 17, 2024.
Terrance Perry,
Acting Director, Office of Grants Services. Centers for Disease Control and Prevention.

[FR Doc. 2024-31200 Filed 12-27-24; 8:45 am]

BILLING CODE 4163-18-P